DEPARTMENT OF HOUSING AND URBAN DEVELOPMENT

[Docket No. FR-5957-N-01]

User Fee Schedule for the Technical Suitability of Products Program—Revisions in the User Fees Assessed to Manufacturers of Materials and Products

AGENCY: Office of the Assistant Secretary for Housing—Federal Housing Commissioner, HUD.

ACTION: Notice.

SUMMARY: This notice revises the User Fee Schedule for the Technical Suitability of Products program published as a notice along with a final rule on August 9, 1984, and later revised in notices published on January 22, 1985, August 1, 1990, and May 1, 1997. This revised schedule increases fees and amends the fee schedule stated in the May 1, 1997 notice.

DATES: Effective date: September 19, 2016.

FOR FURTHER INFORMATION CONTACT: Pamela Beck Danner, Administrator, Office of Manufactured Housing Programs, Department of Housing and Urban Development, Room 9168, 451 7th Street SW., Washington, DC 20410; email hsgmps@hud.gov or telephone (202) 708-6423. (This is not a toll-free number.) Persons with hearing or speech impairments may access this number via TTY by calling the Federal Information Relay Service at (800) 877-8339.

SUPPLEMENTARY INFORMATION: Under the authority of Section 7(j) of the Department of Housing and Urban Development Act (42 U.S.C. 3535(j)), which permits the Department to “establish fees and charges for inspection, project review and financing service, . . . and other beneficial rights, privileges, licenses, and services” it provides, the Department issued a final rule on August 9, 1984 (49 FR 31854), codified at 24 CFR 200.934, establishing a system of fees to be charged to manufacturers of products and materials used on structures approved for mortgages or loans insured under the National Housing Act (12 U.S.C. 1701 et seq.). Products and materials used in structures are approved via the Technical Suitability of Products (TSP) program under the authority of section 521 of the National Housing Act, 12 U.S.C. 1735e.

Under the rule, manufacturers that seek HUD acceptance of their materials and products under the TSP program will be charged fees for initial applications, renewals, and revisions with respect to review of documentation demonstrating technical suitability. Paragraph (c) of 24 CFR 200.934 provides, in relevant part, that the Department will “establish and amend” the fee schedule by publication of a notice in the Federal Register.

The Department has not amended the present fee schedule since May 1, 1997 (62 FR 23783). Income received as a result of the present User Fee Schedule does not maintain the current minimum level of support for the ongoing TSP program and requires adjustment to maintain the integrity and effectiveness of the program. A fee increase is necessary for the following reasons: (1) To maintain partial recovery of program costs, since fees have not been adjusted for nearly 20 years; (2) to compensate the Department more adequately for the significant labor involved in processing “revisions,” which require substantially more work than “renewals”; (3) to bring the Department's fees more in line with, although significantly lower than, other similarly-missioned nationally recognized technical evaluation programs (such as the International Code Council Evaluation Service); and (4) to recognize the fact that TSP renewals are for a 3-year period, which is a longer duration than provided by other nationally recognized evaluation programs.

Accordingly, notice is hereby given that the Department is revising the fee schedule published in the notice of May 1, 1997 (62 FR 23783), as set forth below. Note that the Department is discontinuing issuance of State Letters of Acceptance (SLA) and Mechanical Engineering Bulletins (MEB). This modification reflects a change in Departmental procedures which authorized the Department's State Offices to issue SLAs; MEBs, which covers separate utility cores or nonstandard mechanical systems, i.e. modular utility cores, kitchens and baths, are no longer issued by HUD under the TSP program. This notice also clarifies that the revision and basic renewal fees apply to Structural Engineering Bulletins (SEBs) and Materials Releases (MRs).

The complete fee schedule, as revised, is as follows:

(i) Initial Applications

Structural Engineering Bulletins (SEBs)—$6,000.

Materials Releases (MRs)—$6,000.

Use of Materials Bulletins—Administrator Review for Acceptance (ARAs)—$4,400.

(ii) Revisions

Structural Engineering Bulletins (SEBs)—$3,000.

Materials Releases (MRs)—$3,000.

(iii) Basic Renewal Fee Without Revision

The following fee schedule, as revised, will be assessed every three years for renewal without change:

Structural Engineering Bulletins (SEBs)—$1,200.

Materials Releases (MRs)—$1,200.

Authority: Sections 7 (d) and (j), Department of Housing and Urban Development Act, 42 U.S.C. 3535 (d) and (j), and 24 CFR 200.934(c).

Dated: August 11, 2016.
Janet M. Golrick,
Associate General Deputy Assistant Secretary for Housing.

[FR Doc. 2016-19868 Filed 8-18-16; 8:45 am]

BILLING CODE 4210-67-P